DEPARTMENT OF ENERGY

Federal Energy Regulatory Commission

Combined Notice of Filings #1

Take notice that the Commission received the following electric rate filings:

Docket Numbers: ER13-1667-004.

Applicants: Battery Utility of Ohio, LLC.

Description: Notice of Change in Status of Battery Utility of Ohio, LLC.

Filed Date: 11/20/18.

Accession Number: 20181120-5221.

Comments Due: 5 p.m. ET 12/11/18.

Docket Numbers: ER17-1609-002.

Applicants: Carroll County Energy LLC.

Description: Notice of Non-Material Change in Status of Carroll County Energy LLC.

Filed Date: 11/20/18.

Accession Number: 20181120-5254.

Comments Due: 5 p.m. ET 12/11/18.

Docket Numbers: ER18-2516-000.

Applicants: Willow Springs Solar, LLC.

Description: Amendment to September 28, 2018 Willow Springs Solar, LLC tariff filing.

Filed Date: 11/20/18.

Accession Number: 20181120-5219.

Comments Due: 5 p.m. ET 11/27/18.

Docket Numbers: ER19-104-001.

Applicants: El Paso Electric Company.

Description: Tariff Amendment: Concurrence of EPE to APS Service Agreement No. 367 to be effective 9/7/2018.

Filed Date: 11/20/18.

Accession Number: 20181120-5167.

Comments Due: 5 p.m. ET 12/11/18.

Docket Numbers: ER19-381-000.

Applicants: Power Holding LLC.

Description: Baseline eTariff Filing: Application for Market Based Rate to be effective 11/21/2018.

Filed Date: 11/20/18.

Accession Number: 20181120-5175.

Comments Due: 5 p.m. ET 12/11/18.

Docket Numbers: ER19-382-000.

Applicants: Duke Energy Carolinas, LLC.

Description: § 205(d) Rate Filing: DEC-City of Concord NITSA (SA-150) Amendment to be effective 1/1/2019.

Filed Date: 11/20/18.

Accession Number: 20181120-5176.

Comments Due: 5 p.m. ET 12/11/18.

Docket Numbers: ER19-383-000.

Applicants: PJM Interconnection, L.L.C.

Description: § 205(d) Rate Filing: Revisions to OATT and OA re Regulation Market Clearing Price to be effective 1/21/2019.

Filed Date: 11/20/18.

Accession Number: 20181120-5182.

Comments Due: 5 p.m. ET 12/11/18.

Docket Numbers: ER19-384-000.

Applicants: Pacific Gas and Electric Company.

Description: Request for One-time Limited Tariff Waiver, et al. of Pacific Gas and Electric Company under ER19-384.

Filed Date: 11/20/18.

Accession Number: 20181120-5218.

Comments Due: 5 p.m. ET 11/30/18.

Docket Numbers: ER19-385-000.

Applicants: NRG Power Marketing LLC.

Description: Application to Recover Fuel Procurement Costs of NRG Power Marketing, LLC.

Filed Date: 11/20/18.

Accession Number: 20181120-5223.

Comments Due: 5 p.m. ET 12/11/18.

Docket Numbers: ER19-386-000.

Applicants: PJM Interconnection, L.L.C.

Description: § 205(d) Rate Filing: Amendment to ISA, SA No. 2278, Queue# None (Consent) to be effective 4/1/2010.

Filed Date: 11/21/18.

Accession Number: 20181121-5054.

Comments Due: 5 p.m. ET 12/12/18.

Docket Numbers: ER19-387-000.

Applicants: PJM Interconnection, L.L.C.

Description: § 205(d) Rate Filing: Original ISA and CSA, SA Nos. 5231 and 5232; Queue No. AC1-048/AC2-053 to be effective 10/23/2018.

Filed Date: 11/21/18.

Accession Number: 20181121-5061.

Comments Due: 5 p.m. ET 12/12/18.

Take notice that the Commission received the following qualifying facility filings:

Docket Numbers: QF18-452-000.

Applicants: North American Natural Resources, Inc.

Description: Refund Report of North American Natural Resources, Inc.

Filed Date: 11/20/18.

Accession Number: 20181120-5217.

Comments Due: 5 p.m. ET 12/11/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 21, 2018.
Nathaniel J. Davis, Sr.,
Deputy Secretary.

[FR Doc. 2018-25925 Filed 11-27-18; 8:45 am]

BILLING CODE 6717-01-P